ELECTION ASSISTANCE COMMISSION

Sunshine Act Notice

AGENCY: U.S. Election Assistance Commission.

ACTION: Notice of Virtual Public Forum for EAC Standards Board.

DATE AND TIME: Tuesday, May 31, 2011, 10 a.m. EDT through Tuesday, June 14, 2011, 10 a.m. EDT.

PLACE: EAC Standards Board Virtual Public Forum at http://www.eac.gov/virtual_public_forum.aspx. Once at the main page of EAC's Web site, viewers should click the link to the Virtual Public Forum. The virtual public forum will open on Tuesday, May 31, 2011, at 10 a.m. EDT and will close on Tuesday, June 14, 2011, at 10 a.m. EDT. The site will be available 24 hours per day during that 14-day period.

PURPOSE: The EAC Standards Board will review and provide comment on the TGDC's resolutions from the January 2011 TGDC meeting, with a focus on Software Independence, to provide election official feedback to NIST and the TGDC.

The EAC Standards Board Virtual Public Forum was established to enable the Standards Board to provide comment in an efficient manner in a public forum, including being able to review and discuss draft documents when it is not feasible for an in-person board meeting. The Standards Board will not take any votes or propose any resolutions during the 14-day forum of May 31-June 14, 2011. Members will post comments about TGDC's work related to Software Independence to provide election official feedback to the TGDC and NIST.

This activity is open for public observation. The public may view the Proceedings of this special forum by visiting the EAC Standards Board Virtual Public Forum at http://www.eac.gov/virtual_public_forum.aspx any time between Tuesday, May 31, 2011, 10 a.m. EDT and Tuesday, June 14, 2011, 10 a.m. EDT. If it is determined by the chair of the Standards Board that the meeting period will be extended, an amended notice will be posted in the Federal Register and on the EAC Web site at http://www.eac.gov for an extension of five days or more. Any shorter extension will only be posted at http://www.eac.gov as posting in the Federal Register will not be practicable. The public also may view the TGDC's work related to Software Independence, which will be posted on EAC's Web site beginning May 31, 2011. The public may file written statements to the EAC Standards Board at standardsboard@eac.gov and by copying Sharmili Edwards at sedwards@eac.gov. Data on EAC's Web site is accessible to visitors with disabilities and meets the requirements of Section 508 of the Rehabilitation Act.

PERSON TO CONTACT FOR INFORMATION: Bryan Whitener, Telephone: (202) 566-3100.

Gineen M. Bresso,
Commissioner, U.S. Election Assistance Commission.

[FR Doc. 2011-11840 Filed 5-10-11; 4:15 pm]

BILLING CODE 6820-KF-P